ENVIRONMENTAL PROTECTION AGENCY

[ER-FRL-6633-3]

Environmental Impact Statements; Notice of Availability

Responsible Agency: Office of Federal Activities, General Information (202) 564-7167 or http://www.epa.gov/compliance/nepa/.

Weekly receipt of Environmental Impact Statements.

Filed September 9, 2002 through September 13, 2002.

Pursuant to 40 CFR 1506.9.

EIS No. 020385, Draft Supplement, UAF, CA, NM, Airborne Laser (ABL) Program, To Conduct Test Activities at Kirtland Air Force Base (AFB) and White Sands Missile Range/Holloman AFB, New Mexico, and Edwards AFB and Vandenberg AFS, CA, Comment Period Ends: November 5, 2002, Contact: Charles Brown (210) 536-4203. This document is available on the Internet at: “http://www.hqafcee.brooks.af.mil/ec/EIS/ABL/D-SEIS.pdf.”

EIS No. 020386, Draft EIS, COE, PR, Port of The Americas Project, Development of a Deep-Draft Terminal at the Port of Ponce to Receive Post-Panamax Ships, COE Section 10n and 404 Permits, Municipalities of Guayanilla-Penuelas and Ponce, Puerto Rico, Comment Period Ends: November 19, 2002, Contact: Edwin E. Muniz (787) 289-7034.

EIS No. 020387, Final EIS, EDA, CT, Adriaen's Landing Project, Development from Columbus Boulevard south of the Founders Bridge and Riverfront Plaza, City of Hartford, CT, Wait Period Ends: October 21, 2002, Contact: Beatz C. Roman, (860) 522-4888.

EIS No. 020388, Final EIS, DOE, NM, ID, NV, Technical Area 18 (TA-18) Relocation of Capabilities and Materials at the Los Almos National Laboratory (LANL), Operational Activities Involve Research in and the Design, Development, Construction, and Application of Experiments on Nuclear Criticality, NM, NV and ID, Wait Period Ends: October 21, 2002, Contact: James J. Rose (202) 586-5484.

EIS No. 020389, Draft EIS, DOE, WA, ID, Box Canyon (Hydroelectric) Project, (FERC Project No. 2042-013), Application for a New License for Existing 72-megawatt (MW) Hydroelectric Project, Public Utility District No. 1 (PUD), Pend Oreille River, Pend Oreille County, WA and Bonner County, ID, Comment Period Ends: November 19, 2002, Contact: Magalie R. Salas (202) 502-8760. This document is available on the Internet at: http://www.sr25study.com.

EIS No. 020390, Final EIS, FAA, LA, Adoption—I-49 Connector Project, FAA Decisions Relative to Preparing a Record of Decision for FHWA Project's Impact on the Lafayette Regional Airport, Implementation, Lafayette Parish, LA, Wait Period Ends: October 15, 2002, Contact: Joyce M. Porter (817) 222-5644. U.S. Department of Transportation's (USDOT's), Federal Aviation Administration (FAA) has adopted USDOT's, Federal Highway Administration FEIS #020380 filed, with U.S. Environmental Protection Agency on 9/6/2002. FAA was a cooperating agency on the above project, recirculation of the above project is not necessary under Section 1506.3(c) of the CEQ Regulations.

EIS No. 020391, Final EIS, APH, Regulation—Importation of Unmanufactured Wood Articles from Mexico, With Consideration for Cumulative Impacts of Methyl Bromide Use, Proposed Rule, Wait Period Ends: October 21, 2002, Contact: Raymond B. Nosbaum (301) 734-8790. This document is available on the Internet at: http://www.aphis.usda.gov/ppddocs.html.

EIS No. 020392, Draft EIS, FHW, UT, Reference Post (RP) 13 Interchange and City Road Project, Construction on New Interchange at RP 13 on to I-15 and City Road in Washington City, Funding, Washington County, UT, Comment Period Ends: November 11, 2002, Contact: Sandra Garcia (801) 281-8892.

EIS No. 020393, DRAFT EIS, COE, FL, Fort Pierce Shore Protection Project, Future Dredging of Capron Shoal, Implementation, St. Lucie County, FL, Comment Period Ends: November 4, 2002, Contact: William Lang (904) 232-2615.

EIS No. 020394, Draft Supplement, COE, Missouri River Fish and Wildlife Mitigation Project, To Restore Fish and Wildlife Habitat Losses Resulting from Construction, Operation, and Maintenance of the Missouri River Bank Stabilization and Navigation Project (BSNP), Missouri River, Sioux City, Iowa to the Mouth near St. Louis, NB, KS and MO, Comment Period Ends: November 4, 2002, Contact: Kelly Ryan, (816) 983-3324.

Amended Notices

EIS No. 020301, Draft EIS, AFS, AK, Kosciusko Island Timber Sale(s), Harvesting Timber, Tongass National Forest, Thorne Bay Ranger District, Kosciusko Island, AK, Comment Period Ends: September 27, 2002, Contact: Glenn Pierce (907) 826-1629. Revision of FR Notice Published on 7/19/2002: CEQ Wait Period Ending on 9/3/2002 has been Extended to 9/27/2002.

EIS No. 020314, Draft EIS, AFS, OR, Granite Area Mining Projects, Proposals to Approve Plans of Operation on 16 Mining Claims within the Granite Creek Watershed, Implementation North Fork John Day Ranger District, Umatilla National Forest, Grant County, OR, Comment Period Ends: October 21, 2002, Contact: Robert Reed (541) 427-5335. Revision of FR Notice Published on 7/26/2002: CEQ Comment Period Ending 9/9/2002 has been Extended to 10/21/2002.

EIS No. 020377, Draft EIS, FHW, ND, U.S. 2 Highway Transportation Improvements, From near U.S. Highway 85 (milepost 31.93) to west of U.S. Highway 52 (milepost 131.24), Funding, NPDES and COE Section 404 Permits, Williams, Mountrail, and Ward Counties, ND, Comment Period Ends: October 21, 2002, Contact: J. Michael Bowen (701) 250-4204. Revision of FR Notice Published on 09/06/2002: Correction to Comment Period from 10/7/2002 to 10/21/2002.

Dated: September 17, 2002.
Joseph C. Montgomery,
Director, NEPA Compliance Division, Office of Federal Activities.

[FR Doc. 02-24001 Filed 9-19-02; 8:45 am]

BILLING CODE 6560-50-P